COMMISSION ON CIVIL RIGHTS

Sunshine Act Notice

AGENCY: United States Commission on Civil Rights.

ACTION: Notice of briefing and business meeting.

DATE AND TIME: Friday, February 8, 2013; 9:30 a.m. EST.

PLACE: 1331 Pennsylvania Ave. NW., Suite 1150, Washington, DC 20425.

Briefing Agenda—9:30 a.m.-11:30 a.m.

This briefing is open to the public.

Topic: Regulatory and Other Barriers to Entrepreneurship that Impede Business Start-Ups.

I. Introductory Remarks by Chairman

II. Panel Discussion—Government, Scholars & Advocacy Groups Panel

Speakers' Remarks and Questions from Commissioners

III. Adjourn Briefing

Meeting Agenda—11:30 a.m.

I. Approval of Agenda

II. Introductions—Inspector General's Office

III. Program Planning

• Update on the Sex Trafficking: A Gender-Based Violation of Civil Rights briefing

• Update on the Federal Civil Rights Engagement with Arab & Muslim Communities Post 9/11 briefing

• Update on the Assessing the Impact of Criminal Background Checks and the Equal Employment Opportunity Commission's Conviction Records Policy on the Employment of Black and Hispanic Workers briefing

IV. Management and Operations

• Chief of Regional Programs' report

• OGC Update on Transaction Reporting rules

V. Approval of State Advisory Committee Slates

• Colorado

• Louisiana

• Ohio

• South Carolina

• South Dakota

VI. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: January 28, 2013.
David Mussatt,
Acting Chief, Regional Programs Coordination Office.

[FR Doc. 2013-02107 Filed 1-28-13; 4:15 pm]

BILLING CODE 6335-01-P